DEPARTMENT OF COMMERCE

National Oceanic and Atmospheric Administration

RIN 0648-XE196

Caribbean Fishery Management Council; Public Meeting

AGENCY: National Marine Fisheries Service (NMFS), National Oceanic and Atmospheric Administration (NOAA), Commerce.

ACTION: Notice of a public meeting.

SUMMARY: The Caribbean Fishery Management Council's Outreach and Education Advisory Panel (OEAP) will meet.

DATES: The meeting will be held on October 30, 2015, from 10 a.m. to 4 p.m.

ADDRESSES: The meeting will be held at CFMC Office, 270 Munoz Rivera Avenue, Suite 401 San Juan, Puerto Rico 00918.

FOR FURTHER INFORMATION CONTACT: Caribbean Fishery Management Council, 270 Muñoz Rivera Avenue, Suite 401, San Juan, Puerto Rico 00918, telephone: (787) 766-5926.

SUPPLEMENTARY INFORMATION: The OEAP will meet to discuss the items contained in the following agenda:

10 a.m.-4 p.m.

—Call to Order

—Adoption of Agenda

—OEAP Chairperson's Report:

—OEAP Members

—Outreach priorities for 2015-20

—Conduct 2 MREP training sessions in USVI and PR (Eastern coast)

—Initiate campaign for Sustainable Seafood Campaign partnering with TNC and UPRSG

—Calendars

—Produce Fact Sheets/Infographics/small posters on:

—New lobster traps

—Octopus life cycle

—Forage fish

—Handling Fresh Tuna fish

—Essential Fish Habitats

—Status of:

—Island-based FMPs

—Newsletter

—Web site

—2016 Calendar

—CFMC Brochure

—USVI activities

—PR Commercial Fisheries Project (PEPCO)—Helena Antoun

—MREP-Caribbean: Helena Antoun

—Other Business

The OEAP meeting will convene on October 30, 2015, from 10 a.m. until 4 p.m. The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: September 29, 2015.
Tracey L. Thompson,
Acting Deputy Director, Office of Sustainable Fisheries, National Marine Fisheries Service.

[FR Doc. 2015-25112 Filed 10-1-15; 8:45 am]

BILLING CODE 3510-22-P